DEPARTMENT OF AGRICULTURE

Agricultural Marketing Service

[Doc. No. AMS-FGIS-23-0036]

Grain Inspection Advisory Committee Meeting

AGENCY: Agricultural Marketing Service, USDA.

ACTION: Notice of Federal advisory committee meeting.

SUMMARY: Pursuant to the Federal Advisory Committee Act, this constitutes notice of the upcoming meeting of the Grain Inspection Advisory Committee (Advisory Committee). The Advisory Committee meets no less than once annually to advise the Secretary on the programs and services delivered by the Agricultural Marketing Service (AMS) under the U.S. Grain Standards Act. Recommendations by the Advisory Committee help AMS meet the needs of its customers, who operate in a dynamic and changing marketplace.

DATES: August 30, 2023, 8:30 a.m. to 5:00 p.m. Central & August 31, 2023, 8:30 a.m. to 12:00 p.m. Central.

Written Comments: Written public comments will be accepted on or before 11:59 p.m. ET on August 25, 2023, via email to Kendra.C.Kline@usda.gov. Comments submitted after this date will be provided to AMS, but the Committee may not have adequate time to consider those comments prior to the meeting.

Oral Comments: The Committee is providing the public an opportunity to present oral comments and will accommodate as many individuals and organizations as time permits. Persons or organizations wishing to make oral comments must pre-register by 11:59 p.m. ET, August 25, 2023, and may only register for one speaking slot. Instructions for registering and participating in the meeting can be obtained by contacting the person listed in the FOR FURTHER INFORMATION CONTACT section by or before the deadline.

ADDRESSES: Meeting Location: The Advisory Committee meeting will take place at the AMS National Grain Center, 10383 N Ambassador Drive, Kansas City, Missouri 64153. The meeting will also be virtually accessible. Meeting information can be found at: https://www.ams.usda.gov/about-ams/facas-advisory-councils/giac.

FOR FURTHER INFORMATION CONTACT: Kendra Kline by phone at (202) 690-2410 or by email at Kendra.C.Kline@usda.gov.

SUPPLEMENTARY INFORMATION: The purpose of the Advisory Committee is to provide advice to AMS with respect to the implementation of the U.S. Grain Standards Act (7 U.S.C. 71-87k). Information about the Advisory Committee is available on the AMS website at https://www.ams.usda.gov/about-ams/facas-advisory-councils/giac.

The agenda for the upcoming meeting will include general program updates, and discussions about FGIS User Fees & Budget, Vessel Fumigation Policy, Lab Scales, and Data Standards.

Public participation will be limited to written statements and interested parties who have registered to present comments orally to the Advisory Committee.

USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication of program information or related accommodations should contact Kendra Kline at the telephone number or email listed above.

Dated: August 1, 2023.
Cikena Reid,
USDA Committee Management Officer.

[FR Doc. 2023-16736 Filed 8-4-23; 8:45 am]

BILLING CODE 3410-02-P